DEPARTMENT OF HEALTH AND HUMAN SERVICES

Office of the Secretary

Findings of Research Misconduct

AGENCY: Office of the Secretary, HHS.

ACTION: Notice.

SUMMARY: Findings of research misconduct have been made against Terry Magnuson, Ph.D. (Respondent), Kay M. & Van L. Weatherspoon Eminent Distinguished Professor, Department of Genetics, School of Medicine (SOM), University of North Carolina at Chapel Hill (UNC). Respondent engaged in research misconduct in research included in one (1) grant application for U.S. Public Health Service (PHS) funds, specifically National Cancer Institute (NCI), National Institutes of Health (NIH), grant application R01 CA267946-01A1. The administrative actions, including supervision from February 25, 2022-January 5, 2024, are detailed below.

FOR FURTHER INFORMATION CONTACT: Wanda K. Jones, Dr.P.H., Acting Director, Office of Research Integrity, 1101 Wootton Parkway, Suite 240, Rockville, MD 20852, (240) 453-8200.

SUPPLEMENTARY INFORMATION: Notice is hereby given that the Office of Research Integrity (ORI) has taken final action in the following case:

Terry Magnuson, Ph.D., University of North Carolina at Chapel Hill: Based on the report of an assessment conducted by UNC, Respondent's admission, and additional analysis conducted by ORI in its oversight review, ORI found that Dr. Terry Magnuson, Kay M. & Van L. Weatherspoon Eminent Distinguished Professor, Department of Genetics, SOM, UNC, engaged in research misconduct in research included in one (1) grant application for PHS funds, specifically NCI, NIH, grant application R01 CA267946-01A1.

ORI found that Respondent engaged in research misconduct by intentionally, knowingly, or recklessly plagiarizing text from the following three (3) online articles and one (1) published paper:

• Comprehensive Guide to Understanding and Using CUT&Tag Assay. November 4, 2020. https://www.activemotif.com/blog-cut-tag (hereafter referred as “Blog cut&tag 2020”).

• Complete Guide to Understanding and Using ATAC-Seq. February 9, 2021. https://www.activemotif.com/blog-atac-seq (hereafter referred as “Blog ATAC-Seq 2021”).

• Illumina CATCH-IT. https://www.illumina.com/science/sequencing-method-explorer/kits-and-arrays/catch-it.html (hereafter referred as “Illumina Catch-it”).

• Modeling Physiological Events in 2D vs. 3D Cell Culture. Physiology (Bethesda) 2017 Jul;32(4):266-277; doi: 10.1152/physiol.00036.2016 (hereafter referred as “Physiology (Bethesda) 2017”).

Plagiarized text was included in:

• Grant application R01 CA267946-01A1, “Genome-wide dynamics of chromatin modifiers,” submitted to NCI, NIH, on March 1, 2021 (hereafter referred as “R01 CA267946-01A1”)

Specifically, ORI found that Respondent knowingly, intentionally, or recklessly plagiarized from:

• The introduction (p. 266) and techniques (p. 267) sections of Physiology (Bethesda) 2017 to compose subsection “ii. Identifying changes to SWI/SNF composition driven by cell state changes” of Specific Aim 1 of R01 CA267946-01A1

• the introduction and sections “What is CUT&Tag” and “Before CUT&Tag, There Was CUT&RUN” of Blog cut&tag 2020 to compose the “CHIP-seq protocols” description in R01 CA267946-01A1

• the “What is ATAC-Seq?” section of Blog ATAC-Seq 2021 to compose the “ATAC-seq protocols” description in R01 CA267946-01A1

• the web page “Illumina Catch-it” describing the CATCH-IT technology to compose the “Pitfalls & Alternatives” section of Specific Aim 1 in R01 CA267946-01A1

Dr. Magnuson entered into a Voluntary Settlement Agreement (Agreement) and voluntarily agreed to the following:

(1) Respondent will have his research supervised from February 25, 2022-January 5, 2024 (the “Supervision Period”). Prior to the submission of an application for PHS support for a research project on which Respondent's participation is proposed and prior to Respondent's participation in any capacity in PHS-supported research, Respondent will submit a plan for supervision of Respondent's duties to ORI for approval. The supervision plan must be designed to ensure the integrity of Respondent's research. Respondent will not participate in any PHS-supported research until such a supervision plan is approved by ORI. Respondent will comply with the agreed-upon supervision plan.

(2) The requirements for Respondent's supervision plan are as follows:

i. The respondent will submit his grant applications seeking PHS support to the Vice Dean, UNC SOM, thirty (30) days prior to the grant application submission deadline. The SOM Office of Research (OR) will review Respondent's grant applications to check for plagiarism and ensure compliance with acceptable scientific practice for citation of prior work. SOM OR will not recruit Respondent's supervisor or collaborators to review his grant applications. SOM OR will submit a report to ORI at six (6) month intervals setting forth the committee meeting dates and Respondent's compliance with appropriate research standards and confirming the integrity of Respondent's research.

ii. SOM OR will conduct an advance review of any report, manuscript, or abstract involving PHS-supported research in which Respondent is involved. The review will include a discussion with Respondent of the primary data represented in those documents and will include a certification to ORI that the data presented and the text in the report, manuscript, or abstract is supported by the research record and not plagiarized.

(3) During the Supervision Period, Respondent will ensure that any institution employing him submits, in conjunction with each application for PHS funds, or report, manuscript, or abstract involving PHS-supported research in which Respondent is involved, a certification to ORI that the data provided by Respondent are based on actual experiments or are otherwise legitimately derived and that the data, procedures, and methodology are accurately reported and not plagiarized in the application, report, manuscript, or abstract.

(4) If no supervision plan is provided to ORI, Respondent will provide certification to ORI at the conclusion of the Supervision Period that his participation was not proposed on a research project for which an application for PHS support was submitted and that he has not participated in any capacity in PHS-supported research.

Dated: March 8, 2022.
Wanda K. Jones,
Acting Director, Office of Research Integrity, Office of the Assistant Secretary for Health.

[FR Doc. 2022-05217 Filed 3-10-22; 8:45 am]

BILLING CODE 4150-31-P